DEPARTMENT OF COMMERCE

National Oceanic and Atmospheric Administration

[I.D. 011201D]

Caribbean Fishery Management Council; Public Meeting

AGENCY: National Marine Fisheries Service (NMFS), National Oceanic and Atmospheric Administration (NOAA), Commerce.

ACTION: Notice of public meeting.

SUMMARY: The Caribbean Fishery Management Council (CFMC), the South Atlantic Fishery Management Council (SAFMC), and the Gulf of Mexico Fishery Management Council (GMFMC) will hold a joint meeting.

DATES: The meeting will be held on February 22, 2001, from 9 a.m. until 5 p.m.

ADDRESSES: The meeting will be held at the Wyndham Sugar Bay Beach Club and Resort, 6500 Estate Smith Bay, St. Thomas, U.S.V.I.

FOR FURTHER INFORMATION CONTACT: Caribbean Fishery Management Council, 268 Muñoz Rivera Avenue, Suite 1108, San Juan, Puerto Rico 00918-2577; telephone: (787) 766-5926.

SUPPLEMENTARY INFORMATION: The Caribbean, South Atlantic, and Gulf of Mexico Councils will hold a joint meeting to discuss the items contained in the following agenda:

Call to Order - Virdin Brown

Adoption of Agenda

Dolphin/Wahoo Fishery Management Plan (FMP)

-Status of FMP Development - Bob Mahood

-Overview of Decision Document - Roger Pugliese

-Public Comment Period

-Discussion of Proposed Management Measures in the Decision Document

-Approval of Management Measures by each Council as Necessary

-Approve all Actions to be Included in the FMP - CFMC, GMFMC and SAFMC

-Approve FMP for Submission to the Secretary - CFMC, GMFMC, and SAFMC

-Schedule for Finalizing and Submitting the FMP - Bob Mahood

Other Business

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Councils’ intent to take final action to address the emergency.

The meeting is open to the public, and will be conducted in English.

Fishers and other interested persons are invited to attend and participate with oral or written statements regarding agenda issues.

Special Accommodations

This meeting is physically accessible to people with disabilities. For more information or request for sign language interpretation and/other auxiliary aids, please contact Mr. Miguel A. Rolón, Executive Director, Caribbean Fishery Management Council (see FOR FURTHER INFORMATION CONTACT) at least 5 days prior to the meeting date.

Dated: January 18, 2001.
Richard W. Surdi,
Acting Director, Office of Sustainable Fisheries, National Marine Fisheries Service.

[FR Doc. 01-2022 Filed 1-23-01; 8:45 am]

BILLING CODE 3510-22-S